INTERNATIONAL TRADE COMMISSION

[DN 2850]

Certain Automotive GPS Navigation Systems, Components Thereof, and Products Containing Same; Receipt of Complaint; Solicitation of Comments Relating to the Public Interest

AGENCY: U.S. International Trade Commission.

ACTION: Notice.

SUMMARY: Notice is hereby given that the U.S. International Trade Commission has received a complaint entitled In Re Certain Automotive GPS Navigation Systems, Components Thereof, And Products Containing Same, DN 2850; the Commission is soliciting comments on any public interest issues raised by the complaint.

FOR FURTHER INFORMATION CONTACT: James R. Holbein, Secretary to the Commission, U.S. International Trade Commission, 500 E Street, SW., Washington, DC 20436, telephone (202) 205-2000. The public version of the complaint can be accessed on the Commission's electronic docket (EDIS) at http://edis.usitc.gov, and will be available for inspection during official business hours (8:45 a.m. to 5:15 p.m.) in the Office of the Secretary, U.S. International Trade Commission, 500 E Street, SW., Washington, DC 20436, telephone (202) 205-2000.

General information concerning the Commission may also be obtained by accessing its Internet server (http://www.usitc.gov). The public record for this investigation may be viewed on the Commission's electronic docket (EDIS) at http://www.edis.usitc.gov. Hearing-impaired persons are advised that information on this matter can be obtained by contacting the Commission's TDD terminal on (202) 205-1810.

SUPPLEMENTARY INFORMATION: The Commission has received a complaint filed on behalf of Beacon Navigation Gmbh on October 21, 2011. The complaint alleges violations of section 337 of the Tariff Act of 1930 (19 U.S.C. 1337) in the importation into the United States, the sale for importation, and the sale within the United States after importation of certain automotive gps navigation systems, components thereof, and products containing same. The complaint names as respondents Audi AG of Germany; Audi of America, Inc. of Auburn Hills, MI; Audi of America, LLC of Herndon, VA; Bayerische Motoren Werke AG of Germany; BMW of North America, LLC of Woodcliff Lake, NJ; BMW Manufacturing Co., LLC of Greer, SC; Chrysler Group LLC of Auburn Hills, MI; Ford Motor Company of Dearborn, MI; General Motors Company of Detroit, MI; Honda Motor Co. Ltd of Japan; Honda North America, Inc. of Torrance, CA; America Honda Motor Co., Inc. of Torrance, CA; Honda Manufacturing of Alabama, LLC of Lincoln, AL; Honda Manufacturing of Indiana, LLC of Greensburg, IN; Honda of America Mfg, Inc. of Marysville, OH; Hyundai Motor Company of South Korea; Hyundai Motor America of Fountain Valley, CA; Hyundai Motor Manufacturing Alabama, LLC of Montgomery, AL; Kia Motors Corp. of South Korea; Kia Motors America, Inc. of Irvine, CA; Kia Motors Manufacturing Georgia, Inc. of West Point, GA; Mazda Motor Corporation of Japan; Mazda Motor of America, Inc. of Irvine, CA; Daimler AG of Germany; Mercedes-Benz USA, LLC of Montvale, NJ; Mercedes-Benz U.S. International, Inc. of Vance, AL; Nissan Motor Co., Ltd. of Japan; Nissan North America, Inc. of Franklin, TN; Dr. Ing. h. c. F. Porsche AG of Germany; Porsche Cars North America, Inc. of Atlanta, GA; Saab Automobile AB of Sweden; Saab Cars North America, Inc. of Royal Oak, MI; Suzuki Motor Corporation of Japan; American Suzuki Motor Corporation of Brea, CA; Jaguar Land Rover North America, LLC of Mahwah, NJ; Jaguar Cars Limited of United Kingdom; Land Rover of United Kingdom; Toyota Motor Corporation of Japan; Toyota Motor North America, Inc. of Torrance, CA; Toyota Motor Sales, U.S.A., Inc. of Torrance, CA; Toyota Motor Engineering & Manufacturing North America, Inc. of Erlanger, KY; Toyota Motor Manufacturing, Indiana, Inc. of Princeton, IN; Toyota Motor Manufacturing Kentucky, Inc. of Georgetown, KY; Toyota Motor Manufacturing Mississippi, Inc. of Blue Springs, MS; Volkswagen AG of Germany; Volkswagen Group of America, Inc. of Herndon, VA; Volkswagen Group of America Chattanooga of Herndon, VA; Volvo Car Corporation of Sweden; and Volvo Cars of North America, LLC of Rockleigh, NJ.

The complainant, proposed respondents, other interested parties, and members of the public are invited to file comments, not to exceed five pages in length, on any public interest issues raised by the complaint. Comments should address whether issuance of an exclusion order and/or a cease and desist order in this investigation would negatively affect the public health and welfare in the United States, competitive conditions in the United States economy, the production of like or directly competitive articles in the United States, or United States consumers. In particular, the Commission is interested in comments that:

(i) Explain how the articles potentially subject to the orders are used in the United States;

(ii) Identify any public health, safety, or welfare concerns in the United States relating to the potential orders;

(iii) Indicate the extent to which like or directly competitive articles are produced in the United States or are otherwise available in the United States, with respect to the articles potentially subject to the orders; and

(iv) Indicate whether Complainant, Complainant's licensees, and/or third party suppliers have the capacity to replace the volume of articles potentially subject to an exclusion order and a cease and desist order within a commercially reasonable time.

Written submissions must be filed no later than by close of business, five business days after the date of publication of this notice in the Federal Register. There will be further opportunities for comment on the public interest after the issuance of any final initial determination in this investigation.

Persons filing written submissions must file the original document and 12 true copies thereof on or before the deadlines stated above with the Office of the Secretary. Submissions should refer to the docket number (“Docket No. 2850”) in a prominent place on the cover page and/or the first page. The Commission's rules authorize filing submissions with the Secretary by facsimile or electronic means only to the extent permitted by section 201.8 of the rules (see Handbook for Electronic Filing Procedures, http://www.usitc.gov/secretary/fed_reg_notices/rules/documents/handbook_on_electronic_filing.pdf. Persons with questions regarding electronic filing should contact the Secretary (202-205-2000).

Any person desiring to submit a document to the Commission in confidence must request confidential treatment. All such requests should be directed to the Secretary to the Commission and must include a full statement of the reasons why the Commission should grant such treatment. See 19 CFR 201.6. Documents for which confidential treatment by the Commission is properly sought will be treated accordingly. All nonconfidential written submissions will be available for public inspection at the Office of the Secretary.

This action is taken under the authority of section 337 of the Tariff Act of 1930, as amended (19 U.S.C. 1337), and of sections 201.10 and 210.50(a)(4) of the Commission's Rules of Practice and Procedure (19 CFR 201.10, 210.50(a)(4)).

Issued: October 24, 2011.
By order of the Commission.
James R. Holbein,
Secretary to the Commission.

[FR Doc. 2011-27803 Filed 10-26-11; 8:45 am]

BILLING CODE 7020-02-P